FEDERAL COMMUNICATIONS COMMISSION

[CG Docket No. 11-41; FCC 11-30]

Improving Communications Services for Native Nations

AGENCY: Federal Communications Commission.

ACTION: Notice.

SUMMARY: In this document, the Commission seeks comment on a wide range of issues concerning how its rules and policies could be modified to provide greater economic, market entry, communication adoption opportunities, and incentives for Native Nations. The Commission also seeks government-to-government consultation with Native Nations, input from inter-Tribal government associations and Native representative organizations, and input from the public on the best ways to move forward. The Commission is committed to ensuring that all Americans have access to emerging services and technologies, with Native Nations being at the forefront of the Commission's efforts.

DATES: Comments are due on or before May 20, 2011, and reply comments due on or before July 5, 2011.

ADDRESSES: You may submit comments, identified by [CG Docket No. 11-41 and/or FCC 11-30], by any of the following methods:

• Electronic Filers: Comments may be filed electronically using the Internet by accessing the Commission's Electronic Comment Filing System (ECFS) http://fjallfoss.fcc.gov/ecfs2/ or the Federal eRulemaking Portal: http://www.regulations.gov. Filers should follow the instructions provided on the Web site for submitting comments. For ECFS filers, in completing the transmittal screen, filers should include their full name, U.S. Postal Service mailing address, and the applicable docket or rulemaking number, which in this instance is CG Docket No. 11-41.

• Parties may also submit an electronic comment by Internet e-mail. To get filing instructions, filers should send an e-mail to ecfs@fcc.gov, and include the following words in the body of the message, “get form <your e-mail address>.” A sample form and directions will be sent in response.

• Paper Filers: Parties who choose to file by paper must file an original and four copies of each filing. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street, SW., Room TW-A325, Washington, DC 20554. All hand deliveries must be held together with rubber bands or fasteners. Any envelopes must be disposed of before entering the building. The filing hours are 8 a.m. to 7 p.m.

• Commercial overnight mail (other than U.S. Postal Service Express Mail and Priority Mail) must be sent to 9300 East Hampton Drive, Capitol Heights, MD 20743. U.S. Postal Service first-class, Express, and Priority mail must be addressed to 445 12th Street, SW., Washington, DC 20554.

In addition, parties must serve one copy of each pleading with the Commission's duplicating contractor, Best Copy and Printing, Inc., 445 12th Street, SW., Room CY-B402, Washington, DC 20554, or via email to fcc@bcpiweb.com. Parties must also send a courtesy copy of their filing to Rod Flowers, Office of Native Affairs and Policy, Federal Communications Commission, 445 12th Street, SW., Room 4-C487, Washington, DC 20554.

FOR FURTHER INFORMATION CONTACT: Cynthia Bryant, Office of Native Affairs and Policy at (202) 418-8164 (voice), (202) 418-0431 (TTY), or e-mail at Cynthia.Bryant@fcc.gov.

SUPPLEMENTARY INFORMATION: This is a summary of the Commission's Improving Communications Services to Native Nations, Notice of Inquiry (Native Nations NOI), document FCC 11-30, adopted on March 3, 2011, and released on March 4, 2011, in CG Docket No. 11-41.

The full text of document FCC 11-30 and copies of any subsequently filed documents in this matter will be available for public inspection and copying via ECFS, and during regular business hours at the FCC Reference Information Center, Portals II, 445 12th Street, SW., Room CY-A257, Washington, DC 20554. They may also be purchased from the Commission's duplicating contractor, Best Copy and Printing, Inc., Portals II, 445 12th Street, SW., Room CY-B402, Washington, DC 20554, telephone: (800) 378-3160, fax: (202) 488-5563, or Internet: http://www.bcpiweb.com. Document FCC 11-30 can also be downloaded in Word or Portable Document Format (PDF) at: http://www.fcc.gov or http://www.fcc.gov/indians.

Pursuant to 47 CFR 1.415 and 1.419, interested parties may file comments and reply comments on or before the dates indicated in the DATES section of this document. Comments and reply comments must include a short and concise summary of the substantive discussion and questions raised in the document FCC 11-30. The Commission further directs all interested parties to include the name of the filing party and the date of the filing on each page of their comments and reply comments. The Commission strongly encourages that parties track the organization set forth in document FCC 11-30 in order to facilitate its internal review process. Comments and reply comments must otherwise comply with 47 CFR 1.48 and all other applicable sections of the Commission's rules.

Pursuant to 47 CFR 1.1200 et seq., this matter shall be treated as a “permit-but-disclose” proceeding in accordance with the Commission's ex parte rules. Persons making oral ex parte presentations are reminded that memoranda summarizing the presentations must contain summaries of the substance of the presentation and not merely a listing of the subjects discussed. More than a one or two sentence description of the views and arguments presented is generally required. Other rules pertaining to oral and written presentations are set forth in 47 CFR 1.1206(b).

People with Disabilities: To request materials in accessible formats for people with disabilities (Braille, large print, electronic files, audio format), send an e-mail to fcc504@fcc.gov or call the Consumer and Governmental Affairs Bureau at (202) 418-0530 (voice) or (202) 418-0432 (TTY).

Synopsis

The Native Nations NOI seeks consultation and comment on 11 specific categories of communications issues affecting Native Nations and Americans living on Tribal lands—the lands of federally recognized American Indian Tribes and Alaska Native Villages—as well as Hawaiian Home Lands. The first five sections of the document seek comment on issues that cut broadly across the many different substantive areas within the Commission's regulatory mission. With a better understanding of these critical issues, the Commission can more effectively work with Native Nations to break down barriers and find genuine solutions. For example, the NOI seeks comment on whether a Native Nations priority, analogous to the one presently found in the Commission's rules for radio broadcast licensing, should be adopted more broadly to make it easier for Native Nations to provide other communications services to their own communities.

The Native Nations NOI also seeks comment on the basic tools that Native Nations need in order to build sustainable business and deployment models to address the significant communications infrastructure needs, market challenges, and demand aggregation requirements specific to Tribal lands. Further, recognizing the uniqueness of Tribal lands, the document seeks comment on the challenges and barriers faced by Native Nations in achieving broadband adoption and utilization. The Native Nations NOI also seeks comment on whether the Commission should adopt a single definition of Tribal lands for all communications-related regulation and, if so, precisely what that definition should encompass. The other issues on which the Native Nations NOI seeks comment delve into specific substantive areas of the Commission's existing rules. For example, the Native Nations NOI seeks comment on the Universal Service Fund's eligible telecommunications carrier (ETC) designation process on Tribal lands, including the nature and extent of those designations and requirements for the consultative process with Native Nations. The Native Nations NOI also examines public safety and interoperability challenges on Tribal lands, including the widespread lack of 911 and E-911 services.

The Native Nations NOI also seeks comment on how to improve the Commission's processes and Best Practices—pursuant to Section 106 of the National Historic Preservation Act—for the protection of Native sacred sites and consultation with Native Nations and Native Hawaiian Organizations in the review of communications tower sitings. In addition, the Native Nations NOI seeks comment on ways to make satellite-based services available for Native Nations, by addressing issues of cost, equipment, and market-entry points for Native Nations.

The Native Nations NOI seeks comment on the extent to which persons with disabilities living on Tribal lands experience barriers in using communications services and advanced technologies, and asks how the Commission can address those barriers. The Native Nations NOI also asks how the Commission can best structure a productive and efficient nation-to-nation consultation process unique to the mission of the Commission and the needs of Native Nations, recognizing that many consultations with the Federal government are occurring on many different and inter-related issues at any given time.

Finally, recognizing that the Native Nations NOI may not cover all of the communications challenges facing Native Nations and their communities, the document invites comment on other matters involved in the provision of communications services to Native communities that may warrant future Commission action.

Ordering Clauses

Pursuant to sections 1, 2, 4(i), 4(j), 7(a), 11, 214, 225, 254, 255, 301, 303(c), 303(f), 303(g), 303(r), 303(y), 308, 332, 403, 706, and 716 of the Communications Act of 1934, as amended, 47 U.S.C. 151, 152, 154(i), 154(j), 157(a), 161, 214, 225, 254, 255, 301, 303(c), 303(f), 303(g), 303(r), 303(y), 308, 332, 404, 706, and 716, and section 106 of the National Historic Preservation Act, 16 U.S.C. 470f, document FCC 11-30 is adopted.

Federal Communications Commission.
Bulah P. Wheeler,
Deputy Manager.

[FR Doc. 2011-7961 Filed 4-4-11; 8:45 am]

BILLING CODE 6712-01-P